STATE JUSTICE INSTITUTE

Sunshine Act Meeting

DATE: Friday, March 3, 2000, 9 am-5 pm.

PLACE: 1650 King Street Suite 600, Alexandria, VA.

MATTERS TO BE CONSIDERED: Consideration of proposals submitted for Institute funding.

PORTIONS OPEN TO THE PUBLIC: All matters other than those noted as closed below.

PORTIONS CLOSED TO THE PUBLIC: Internal personnel matters and Board of Directors' committee meetings.

CONTACT PERSON: David Tevelin, Executive Director, State Justice Institute, 1650 King Street Suite 600, Alexandria, VA 22314, (703) 684-6100.

David I. Tevelin,
Executive Director.

[FR Doc. 00-4273 Filed 2-17-00; 3:30 pm]

BILLING CODE 6820-SC-M